DEPARTMENT OF ENERGY

Federal Energy Regulatory Commission

[Docket No. RP15-1026-000]

Maritimes & Northeast Pipeline, L.L.C.; Notice of Informal Settlement Conference

Take notice that an informal settlement conference will be convened in this proceeding commencing at 10:00 a.m. on October 20, 2015 at the offices of the Federal Energy Regulatory Commission (Commission), 888 First Street NE., Washington, DC 20426, for the purpose of exploring settlement of the above-referenced docket.

Any party, as defined by 18 CFR 385.102(c), or any participant as defined by 18 CFR 385.102(b), is invited to attend. Persons wishing to become a party must move to intervene and receive intervenor status pursuant to the Commission's regulations under 18 CFR 385.214.

FERC conferences are accessible under section 508 of the Rehabilitation Act of 1973. For accessibility accommodations please send an email to accessibility@ferc.gov or call toll free (866) 208-3372 (voice) or 202-502-8659 (TTY), or send a fax to 202-208-2106 with the required accommodations.

For additional information, please contact John Perkins (202-502-6591) or Frank Kelly (202-502-8185).

Dated: October 8, 2015.
Kimberly D. Bose,
Secretary.

[FR Doc. 2015-26188 Filed 10-14-15; 8:45 am]

BILLING CODE 6717-01-P